DEPARTMENT OF THE INTERIOR

Bureau of Land Management

[ES-930-1430-ET; ALES-052032]

Public Land Order No. 7605; Transfer of Administrative Jurisdiction, Talladega National Forest Boundary Modification; Alabama

AGENCY: Bureau of Land Management, Interior.

ACTION: Public Land Order.

SUMMARY: This order confirms the transfer of administrative jurisdiction as to 559.48 acres of Federal lands from the Secretary of the Interior to the Secretary of Agriculture for expansion of the Talladega National Forest.

DATES: Effective Date: June 17, 2004.

FOR FURTHER INFORMATION CONTACT: Ed Ruda, BLM, Eastern States, 7450 Boston Blvd., Springfield, Virginia 22153, 703-440-1663.

SUPPLEMENTARY INFORMATION: Pub. L. 104-310 modifies the boundaries of the Talladega National Forest to include the lands described in this order.

Order

By virtue of the authority vested in the Secretary of the Interior by Public Law 104-310, 110 Stat. 3817, and Section 204 of the Federal Land Policy and Management Act of 1976, 43 U.S.C. 1714 (2000), it is ordered and confirmed as follows:

1. Subject to valid existing rights, administrative jurisdiction as to the following described Federal lands is transferred from the Secretary of the Interior to the Secretary of Agriculture for expansion of the Talladega National Forest:

Huntsville Principal Meridian

T. 13 S., R. 9 E.,

sec. 28, SE¼.

T. 17 S., R. 8 E.,

sec. 34, NE¼, SW¼, and S½NW¼.

The areas described aggregate 459.48 acres, more or less, in Calhoun and Cleburne Counties.

2. The lands described in Paragraph 1 are administered as part of the Talladega National Forest in accordance with the provisions in Pub. L. 104-310.

Dated: May 17, 2004.
Rebecca W. Watson,
Assistant Secretary—Land and Minerals Management.

[FR Doc. 04-13666 Filed 6-16-04; 8:45 am]

BILLING CODE 4310-GJ-P